DEPARTMENT OF TRANSPORTATION

Maritime Administration

[Docket No. DOT-MARAD-2016-0039]

Agency Requests for Renewal of a Previously Approved Information Collection(s): Capital Construction Fund and Exhibits

AGENCY: Maritime Administration, Department of Transportation.

ACTION: Notice and request for comments.

SUMMARY: The Maritime Administration (MARAD) invites public comments about our intention to request the Office of Management and Budget (OMB) approval to renew an information collection. The collected information is necessary for MARAD to determine an applicant's eligibility to enter into a CCF Agreement. We are required to publish this notice in the Federal Register by the Paperwork Reduction Act of 1995, Public Law 104-13.

DATES: Written comments should be submitted by June 20, 2016.

ADDRESSES: You may submit comments [identified by Docket No. DOT-MARAD-2016-0039] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Daniel Ladd, 202-366-1859, Maritime Administration, Office of Financial Approvals, U.S. Department of Transportation, 1200 New Jersey Avenue SE., Washington, DC 20590. Telephone: 202-366-2321 or E-MAIL: lisa.simmons@marad.dot.gov. Copies of this collection also can be obtained from that office.

SUPPLEMENTARY INFORMATION: OMB Control Number: 2133-0027.

Title: Capital Construction Fund and Exhibits.

Form Numbers: None.

Type of Review: Renewal of an information collection.

Background: This information collection consists of an application for a Capital Construction Fund (CCF) agreement under 46 U.S.C. Chapter 535 and annual submissions of appropriate schedules and exhibits. The Capital Construction Fund is a tax-deferred ship construction fund that was created to assist owners and operators of U.S.-flag vessels in accumulating the large amount of capital necessary for the modernization and expansion of the U.S. merchant marine. The program encourages construction, reconstruction, or acquisition of vessels through the deferment of Federal income taxes on certain deposits of money or other property placed into a CCF.

Respondents: U.S. citizens who own or lease one or more eligible vessels and who have a program to provide for the acquisition, construction or reconstruction of a qualified vessel.

Number of Respondents: 143.

Frequency: Annually.

Total Annual Burden: 1790 Hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: April 4, 2016.
Gabriel Chavez,
Assistant Secretary, Maritime Administration.

[FR Doc. 2016-09047 Filed 4-19-16; 8:45 am]

BILLING CODE 4910-81-P